DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 14, 2006.

Interested persons are invited to submit written comments regarding the subject matter of the investigations to the Director, Division of Trade Adjustment Assistance, at the address shown below, not later than August 14, 2006.

The petitions filed in this case are available for inspection at the Office of the Director, Division of Trade Adjustment Assistance, Employment and Training Administration, U.S. Department of Labor, Room C-5311, 200 Constitution Avenue, NW., Washington, DC 20210.

Signed at Washington, D.C. this 28th day of July 2006.
Erica R. Cantor,
Director, Division of Trade Adjustment Assistance.

APPENDIX.—TAA Petitions Instituted Between 7/17/06 and 7/21/06
TA-W | Subject firm (petitioners) | Location | Date of institution | Date of petition
59726 | Johnson Controls (JCI)(Wkrs) | Albany, MO | 07/17/06 | 07/13/06
59727 | Eisenhart Wallcoverings(USW) | Hanover, PA | 07/17/06 | 07/14/06
59728 | Zoom Technologies, Inc.(Comp) | Boston, MA | 07/17/06 | 07/12/06
59729 | Sanyo Energy (USA) Corporation(Wkrs) | San Diego, CA | 07/17/06 | 07/14/06
59730 | Tutee Corp. | Vernon, CA | 07/17/06 | 07/06/06
59731 | Parino Fashions(Comp) | West New York, NJ | 07/17/06 | 06/29/06
59732 | Fibermark Inc.(Wkrs) | Quakertown, PA | 07/17/06 | 07/12/06
59733 | Maverick Tube, Inc.(State) | Ferndale, MI | 07/17/06 | 06/30/06
59734 | Madison Industries, Inc.(Comp) | Sumter, SC | 07/17/06 | 07/17/06
59735 | Southern Die Caster Inc.(Comp) | Shrewbury, PA | 07/18/06 | 07/12/06
59736 | RSM Co., Inc.(Wkrs) | Charlotte, NC | 07/18/06 | 07/14/06
59737 | Collins & Aikman(USWA) | Nashville, TN | 07/18/06 | 07/17/06
59738 | Para-Chem(Comp) | Simpsonville, SC | 07/18/06 | 07/12/06
59739 | Michael Feldman(UNITE) | Long Island City, NY | 07/18/06 | 07/17/06
59740 | Federal Mogul(Comp) | Scottsville, KY | 07/18/06 | 07/17/06
59741 | Eaton Corporation(Comp) | Laurinburg, NC | 07/18/06 | 07/13/06
59742 | United Panel, Inc.(Wkrs) | Mt. Bethel, PA | 07/18/06 | 07/17/06
59743 | EF Acquisition Corporation(Wkrs) | New York, NY | 07/18/06 | 07/17/06
59744 | AGX Corporation(Wrkrs) | New York, NY | 07/18/06 | 06/19/06
59745 | Jantzen(Wkrs) | Seneca, SC | 07/18/06 | 07/18/06
59746 | Georgia-Pacific Corporation(Comp) | Green Bay, WI | 07/19/06 | 07/14/06
59747 | Khoury, Inc.(State) | Kingsford, MI | 07/19/06 | 07/05/06
59748 | Highlands Diversified Services, Inc.(Comp) | London, KY | 07/19/06 | 07/18/06
59749 | United Airline's Mileage Plus, Inc.(Union) | Tucson, AZ | 07/19/06 | 06/20/06
59750 | Anritsu Instruments Co.(Comp) | Utica, NY | 07/19/06 | 07/18/06
59751 | Continental Industries(State) | Benzonia, MI | 07/19/06 | 07/18/06
59752 | Tarkett Wood, Inc.(Comp) | Brookneal, VA | 07/19/06 | 07/12/06
59753 | Lubrizol—Noveon Corp(Wkrs) | Linden, NJ | 07/21/06 | 07/19/06
59754 | Artesyn Technologies(Comp) | Redwood Falls, MN | 07/21/06 | 07/17/06
59755 | Belden CDT(Comp) | Fort Mill, SC | 07/21/06 | 07/19/06
59756 | Volex Power Cord Products(State) | Clinton, AR | 07/21/06 | 07/19/06
59757 | Boxer Rebellion, Inc.(Wkrs) | Emporia, VA | 07/21/06 | 07/12/06
59758 | Fulflex of Vermont(Comp) | Brattleboro, VT | 07/21/06 | 07/19/06
59759 | Uniwave, Inc.(Comp) | Farmingdale, NY | 07/21/06 | 07/19/06
59760 | Huntington Foam Corporation(Comp) | Mt. Pleasant, PA | 07/21/06 | 07/19/06
59761 | Ace Products, LLC(Wrks) | Conneautville, PA | 07/21/06 | 07/19/06
59762 | United Autoworkers (UAW)(State) | Greenville, MI | 07/21/06 | 07/20/06
59763 | Carlisle Publishing Services(Comp) | Dubuque, IA | 07/21/06 | 07/20/06
59764 | Astro Dye Works(Comp) | Calhoun, GA | 07/21/06 | 07/20/06
59765 | Indiana Tube Corporation(Comp) | Evansville, IN | 07/21/06 | 07/20/06
59766 | HBD Industries(State) | Oneida, TN | 07/21/06 | 07/20/06
59767 | Cooper Standard(State) | El Dorado, AR | 07/21/06 | 07/20/06
59768 | Lenovo, Incorporated(Wkrs) | Durham, NC | 07/21/06 | 07/20/06
59769 | Chapin International(State) | Batavia, NY | 07/21/06 | 07/20/06
59770 | Surgical Support Services(Wkrs) | Eureka, MO | 07/21/06 | 07/19/06

[FR Doc. E6-12622 Filed 8-3-06; 8:45 am]

BILLING CODE 4510-30-P